DEPARTMENT OF STATE

22 CFR Parts 40, 41, and 42

[Public Notice 5362]

Nomenclature Changes Reflecting Creation of Department of Homeland Security

AGENCY: State Department.

ACTION: Final rule.

SUMMARY: This rule makes technical nomenclature changes to Title 22 Code of Federal Regulations (CFR) parts 40, 41, and 42 to properly reflect the creation of the Department of Homeland Security (DHS) and its assumption of the functions of the former Immigration and Naturalization Service (INS). This rule also reflects changes to form numbers on various visa-related forms. Because the amendments are entirely technical, the State Department is not providing an opportunity for public comment under the Administrative Procedure Act “good cause” exemption.

DATES: Effective Date: This rule is effective June 15, 2006.

Persons with access to the internet may view this notice by going to the regulations.gov Web site at: http://www.regulations.gov/index.cfm.

FOR FURTHER INFORMATION CONTACT: Barbara J. Kennedy, Legislation and Regulations Division, Visa Services, U.S. Department of State, 2401 E Street, NW., Room L-603, Washington, DC 20520-0106; telephone 202-663-1206 or e-mail KennedyBJ@state.gov.

SUPPLEMENTARY INFORMATION:

Why is the Department Promulgating This Rule?

On March 1, 2003, the INS's functions were transferred to the newly created Department of Homeland Security (DHS). The reorganization was required by the Homeland Security Act of 2002, Public Law No. 107-296 section 1502. This final rule includes the changes that reflect the transfer.

How is the Department Amending its Regulations?

This rule reflects the transfer of functions made by including these changes in 22 CFR, parts 40, 41, and 42.

Regulatory Findings

Administrative Procedure Act

The Department's implementation of this regulation as a final rule is based upon the “good cause” exceptions found at 5 U.S.C. 553(b)(B). This action is being taken without prior notice and public comment. Section 553(b) of the APA authorizes agencies to dispense with certain notice procedures for rules when they find “good cause” to do so. The requirements of notice and opportunity for comment do not apply when the agency, for good cause, finds that those procedures are “impracticable, unnecessary, or contrary to the public interest.” Because the changes being made are completely technical, the Department has determined that public comment is unnecessary.

Regulatory Flexibility Act/Executive Order 13272: Small Business

The Department of State, in accordance with the Regulatory Flexibility Act (Pub. L. 96-354, 5 U.S.C. 601-612) and Executive Order 13272, section 3(b), has evaluated the effects of this action of small entities and has determined and hereby certifies that this rule will not have a significant economic impact on a substantial number of small entities.

The Unfunded Mandates Reform Act of 1995

Section 202 of the Unfunded Mandates Reform Act of 1995 (UFMA), Public Law 104-4, 109 Stat. 48, 2 U.S.C. 1532, generally requires agencies to prepare a statement before proposing any rule that may result in an annual expenditure of $100 million or more by State, local, or tribal governments, or by the private section. This rule will not result in any such expenditure, nor will it significantly or uniquely affect small governments.

The Small Business Regulatory Enforcement Fairness Act of 1996

This rule is not a major rule as defined by 5 U.S.C. 804, for purposes of congressional review of agency rulemaking under the Small Business Regulatory Enforcement Fairness Act of 1996, Public Law 104-121. This rule will not result in an annual effect on the economy of $100 million or more; a major increase in costs or prices; or significant adverse effects on competition, employment, investment, productivity, innovation, or on the ability of United States-based companies to compete with foreign based companies in domestic and import markets.

Executive Order 12866

The Department of State has reviewed this rule to ensure its consistency with the regulatory philosophy and principles set forth in Executive Order 12866 and has determined that the benefits of the regulation justify its costs. The Department does not consider the rule to be a “significant regulatory action” within the scope of section 3(f)(1) of the Executive Order since it is not likely to have an annual effect on the economy of $100 million or more or to adversely affect in a material way the economy, a sector of the economy, competition, jobs, the environment, public health or safety, or State, local or tribal governments or communities.

Executive Orders 12372 and 13132: Federalism

This regulation will not have substantial direct effects on the States, on the relationship between the national government and the States, or the distribution of power and responsibilities among the various levels of government. Nor will the rule have federalism implications warranting the application of Executive Orders No. 12372 and No. 13132.

Executive Order 12988: Civil Justice Reform

The Department has reviewed the regulations in light of sections 3(a) and 3(b)(2) of Executive Order No. 12988 to eliminate ambiguity, minimize litigation, establish clear legal standards, and reduce burden.

Paperwork Reduction Act

This rule does not impose any new reporting or recordkeeping requirements subject to the Paperwork Reduction Act, 44 U.S.C. chapter 35.

List of Subjects in 22 CFR Parts 40, 41, and 42

Aliens, Immigration, Students, Passports and visas.

In view of the foregoing, 22 CFR parts 40, 41, and 42 are amended as follows:

PART 40—[AMENDED]

Regulations pertaining to both nonimmigrants and immigrants under the Immigration and Nationality Act, as amended.

1. The authority citation for part 40 continues to read as follows:

Authority: 8 U.S.C. 1104.

§ 40.1 [Amended]

2. In § 40.1:

A. Remove paragraph (k);

B. Redesignate existing paragraphs (g), (h), (i), and (j) as (h), (i), (j), and (k) respectively;

C. Add a new paragraph (g);

D. In paragraph (l)(1), remove “Form OF-156” and add “Form DS-156” in its place;

E. In paragraph (l)(2), remove “Form OF-230” and add “Form DS-230” in its place;

F. In paragraph (p), remove “Commissioner of Immigration and Naturalization,” and “INS,” and add “DHS” in its place wherever it appears;

The addition reads as follows:

§ 40.1 Definitions.

* * * * *

(g) DHS means the Department of Homeland Security.

* * * * *

§ 40.11 [Amended]

3. In § 40.11, in paragraph (b) remove “INS” and add “DHS” in its place wherever it appears, and remove “Attorney General” and add “Secretary of Homeland Security” in its place.

§ 40.21 [Amended]

4. In § 40.21, in paragraphs (a)(7) and (b)(2), remove “INS” and add “DHS” in its place wherever it appears.

§ 40.22 [Amended]

5. In § 40.22, in paragraph (e) remove “INS” and add “DHS” in its place wherever it appears.

§ 40.24 [Amended]

6. In § 40.24, in paragraph (d) remove “INS” and add “DHS” in its place wherever it appears.

§ 40.34 [Amended]

7. In § 40.34, in paragraph (g) remove “INS” and add “DHS” in its place wherever it appears.

§ 40.41 [Amended]

8. In § 40.41:

A. In paragraph (b) remove “Attorney General” and add “Secretary of Homeland Security” in its place.

B. In paragraph (d) remove “INS” and add “DHS” in its place.

§ 40.51 [Amended]

9. In § 40.51, in paragraph (b) remove “Attorney General” and add “Secretary of Homeland Security” in its place.

§ 40.53 [Amended]

10. In § 40.53, in paragraph (a) remove “Attorney General” and add “Secretary of Homeland Security” in its place.

§ 40.63 [Amended]

11. In § 40.63, in paragraph (c) remove “INS” and add “DHS” in its place wherever it appears.

§ 40.65 [Amended]

12. In § 40.65, in paragraph (b) remove “INS” and add “DHS” in its place wherever it appears.

§ 40.66 [Amended]

13. In § 40.66, in paragraph (b) remove “INS” and add “DHS” in its place wherever it appears.

§ 40.91 [Amended]

14. In § 40.91, in paragraph (e) remove “Attorney General” and add “Secretary of Homeland Security” in its place.

§ 40.92 [Amended]

15. In § 40.92, in paragraph (c) remove “INS” and add “DHS” in its place.

§ 40.93 [Amended]

16. In § 40.93 remove “Attorney General” and add “Secretary of Homeland Security” in its place.

§ 40.105 [Amended]

17. In § 40.105 remove “Attorney General” and add “Secretary of Homeland Security” in its place.

§ 40.202 [Amended]

18. In § 40.202, in paragraph (b) remove “Attorney General” and add “Secretary of Homeland Security” in its place.

§ 40.301 [Amended]

19. In § 40.301:

A. In paragraph (a) remove “Attorney General” and add “Secretary of Homeland Security” in its place;

B. In paragraph (b) remove “INS” and add “DHS” in its place wherever it appears;

C. In paragraph (c) remove “Attorney General” and add “Secretary of Homeland Security” in its place wherever it appears.

PART 41—[AMENDED]

Visas: Documentation of nonimmigrants under the Immigration and Nationality Act, as amended.

20. The authority citation for part 41 continues to read as follows:

Authority: 8 U.S.C. 1104; Public Law No. 05-277, 112 Stat. 2681-795 through 2681-801.

§ 41.2 [Amended]

21. In § 41.2:

A. In the heading and in the first sentence, remove “Attorney General” and add “Secretary of Homeland Security” in its place wherever it appears;

B. In paragraph (j) remove “Immigration and Naturalization Service” and add “Department of Homeland Security” in its place, and remove “INS” and add “DHS” wherever it appears;

§ 41.11 [Amended]

22. In § 41.11, in paragraph (b)(2) remove “Attorney General” and add “Secretary of Homeland Security” in its place.

§ 41.31 [Amended]

23. In § 41.31, in paragraph (a)(1) remove “Attorney General” and add “Secretary of Homeland Security” in its place.

§ 41.32 [Amended]

24. In § 41.32:

A. In paragraph (a)(2) remove “Form OF-156” and add Form DS-156” in its place;

B. In paragraph (d)(2) remove “Attorney General” and add “Secretary of Homeland Security” in its place.

§ 41.33 [Amended]

25. In § 41.33, in paragraph (c)(2) remove “Attorney General” and add “Secretary of Homeland Security” in its place.

§ 41.51 [Amended]

26. In § 41.51, in paragraphs (a)(13) and (b)(14) remove “Attorney General” and add “Secretary of Homeland Security” in its place wherever it appears.

§ 41.53 [Amended]

27. In § 41.53:

A. In paragraph (a)(2) remove “INS” and add “DHS” in its place wherever it appears.

B. In paragraph (b) remove “Immigration and Naturalization Service” and add “Department of Homeland Security” in its place.

C. In paragraph (d) remove “INS” and add “DHS” in its place.

§ 41.54 [Amended]

28. In § 41.54:

A. In paragraphs (a)(2), (a)(3), (b) and (d), remove “INS” and add “DHS” in its place wherever it appears.

B. In paragraph (e) remove “Attorney General” and add “Secretary of Homeland Security” in its place.

§ 41.55 [Amended]

29. In § 41.55, in paragraphs (a)(2), (b) and (d) remove “INS” and add “DHS” in its place wherever it appears.

§ 41.56 [Amended]

30. In § 41.56, in paragraphs (a)(2), (b) and (d) remove “INS” and add “DHS” in its place wherever it appears.

§ 41.57 [Amended]

31. In § 41.57, in paragraphs (a)(1)(ii), (a)(2) and (a)(4) remove “INS” and add “DHS” in its place wherever it appears.

§ 41.59 [Amended]

32. In § 41.59:

A. In paragraphs (a)(2) and (b) remove “INS” and add “DHS” in its place wherever it appears.

B. In paragraph (d) remove “Attorney General” and add “Secretary of Homeland Security” in its place.

§ 41.61 [Amended]

33. In § 41.61, in paragraphs (b)(1)(i) and (c) remove “Attorney General” and add “Secretary of Homeland Security” in its place wherever it appears.

§ 41.63 [Amended]

34. In § 41.63:

A. In paragraph (a)(2) remove “Commissioner of Immigration and Naturalization” and add “Department of Homeland Security” in its place, and remove “Attorney General” and add “Secretary of Homeland Security” in its place wherever it appears;

B. In paragraph (a)(3) remove “Attorney General” and add “Secretary of Homeland Security” in its place;

C. In paragraph (b)(1) remove “INS Form I-612” and add “DHS Form I-612” in its place, and remove “Immigration and Naturalization Service” and add “Department of Homeland Security” in its place;

D. In paragraph (b)(2)(i), remove “the Commissioner of the Immigration and Naturalization Service (“Commissioner”)” and add “DHS” in its place, and remove “the Commissioner” and add “DHS” in its place;

E. In paragraph (b)(2)(ii), (b)(2)(iii), (c)(5), (d)(2) and (e)(4) remove “the Commissioner” and add “DHS” in its place wherever it appears;

F. In paragraph (f) remove “the Immigration and Naturalization Service” and add “DHS” in its place;

G. In paragraph (g)(8) remove “the Commissioner” and add “DHS” in its place.

§ 41.71 [Amended]

35. In § 41.71, in paragraph (b) remove “Attorney General” and add “Secretary of Homeland Security” in its place.

§ 41.81 [Amended]

36. In § 41.81, in paragraphs (a)(1) and (b)(1) remove “INS” and add “DHS” in its place wherever it appears.

§ 41.83 [Amended]

37. In § 41.83:

A. In paragraphs (a)(2)(i)(A) and (a)(2)(i)(B) remove “INS” and add “DHS” in its place, and remove “on behalf of the Attorney General;”

B. In paragraph (b) remove “Attorney General” and add “Secretary of Homeland Security” in its place wherever it appears.

§ 41.84 [Amended]

38. In § 41.84, in paragraph (a)(3) remove “INS” and add “DHS” in its place.

§ 41.86 [Amended]

39. In § 41.86, in paragraph (c) remove “INS” and add “DHS” in its place.

§ 41.103 [Amended]

40. In § 41.103, in the heading and in paragraphs (a)(1), (a)(2), (b)(1), (b)(1)(i), (b)(1)(ii), (b)(2), (b)(3) and (b)(4) remove “Form OF-156” and add “Form DS-156” in its place wherever it appears.

§ 41.106 [Amended]

41. In § 41.106 remove “Form OF-156” and add “Form DS-156” in its place.

§ 41.108 [Amended]

42. In § 41.108, in paragraph (b) remove “INS” and add “DHS” in its place.

§ 41.112 [Amended]

43. In § 41.112, in paragraphs (d)(1)(ii) and (d)(2)(i) remove “INS” and add “DHS” in its place wherever appears.

§ 41.113 [Amended]

44. In § 41.113:

A. In paragraph (b) remove “Form OF-232” and add “Form DS-232” In its place wherever it appears;

B. In paragraph (d)(2) remove “Attorney General” and add “Secretary of Homeland Security” in its place;

C. In paragraph (g) remove “Form OF-156” and add “Form DS-156” in its place wherever it appears, and remove “Form OF-232” and add Form DS-232” in its place;

D. In paragraph (h) remove “Form OF-156” and add “Form DS-156” in its place.

§ 41.122 [Amended]

45. In paragraphs (e), (h)(4), (h)(5) and (h)(6), remove “INS” and add “DHS” in its place wherever it appears.

PART 42—[AMENDED]

Visas: Documentation of immigrants under the Immigration and Nationality Act, as amended.

46. The authority citation for part 42 continues to read as follows:

Authority: 8 U.S.C. 1104; Public Law No. 107-56, Section 421.

§ 42.1 [Amended]

47. In § 42.1, in paragraph (a) remove “INS” and add “The Department of Homeland Security” in its place.

§ 42.2 [Amended]

48. In § 42.2, in paragraph (g)(2) remove “INS” and add “DHS” in its place, and remove “Attorney General” and add “Secretary of Homeland Security” in its place.

§ 42.21 [Amended]

49. In § 42.21, in paragraph (a) and (b) remove “INS” and add “DHS” in its place wherever it appears.

§ 42.31 [Amended]

50. In § 42.31, in paragraph (a) remove “INS” and add “DHS” in its place.

§ 42.32 [Amended]

51. In § 42.32, in paragraphs (a)(1), (b)(1), (c)(1), (d)(1)(i)(A), (d)(3)(i), (d)(4), (d)(5)(i), (d)(6), (d)(7)(i), (d)(8)(i), (d)(9)(i)(A) and (e)(1), remove “INS” and add “DHS” in its place wherever it appears.

§ 42.43 [Amended]

52. In § 42.43, in paragraph (a) and (b)(1) remove “INS” and add “DHS” in its place wherever it appears.

§ 42.51 [Amended]

53. In § 42.51, in paragraph (b), remove “INS” and add “DHS” in its place.

§ 42.63 [Amended]

54. In § 42.63, in paragraphs (a)(1), (a)(2),(b) and (c) remove “Form OF-230” and add “Form DS-230” in its place wherever it appears.

§ 42.67 [Amended]

55. In § 42.67, in paragraphs (a)(2) and (c)(1) remove “Form OF-230” and add “Form DS-230” in its place wherever it appears.

§ 42.71 [Amended]

56. In § 42.71, in paragraph (a) remove “INS” and add “DHS” in its place.

§ 42.73 [Amended]

57. In § 42.73:

A. In paragraphs (a) and (a)(6), remove “Form OF-155A” and add “Form OF-55B in its place wherever it appears;”

B. In paragraph (b) remove “Form OF-155A” and add “Form OF-155B” in its place, and remove “Form OF-230” and add “Form DS-230” in its place;

C. In paragraph (c) remove “Form OF-155A” and add “Form OF-155B” in its place, and remove “Form OF-230” and add “Form DS-230” in its place, and remove “INS” and add “DHS” in its place;

D. In paragraph (d) remove “Form OF-155A” and add “Form OF-155B” in its place.

§ 42.74 [Amended]

58. In § 42.74, in paragraphs (b)(2) and (c) remove “Form OF-155A” and add “Form OF-155B” wherever it appears.

§ 42.81 [Amended]

59. In § 42.81, in paragraph (b) remove “Form OF-230” and add “Form DS-230” in its place wherever it appears.

§ 42.82 [Amended]

60. In § 42.82, in paragraph (e) remove “INS” and add “DHS” in its place.

Dated: May 17, 2006.
Maura Harty,
Assistant Secretary for Consular Affairs, Department of State.

[FR Doc. E6-8165 Filed 6-14-06; 8:45 am]

BILLING CODE 4710-06-P